DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed revised information collection. In accordance with the Paperwork Reduction Act of 1995, this notice seeks comments concerning the National Fire Incident Reporting System (NFIRS).

SUPPLEMENTARY INFORMATION: The Federal Fire Prevention and Control Act of 1974 (Pub. L. 93-498) authorizes the National Fire Data Center in the United States Fire Administration (USFA) ¹ to gather and analyze information on the magnitude of the Nation's fire problem, as well as its detailed characteristics and trends. The Act further authorizes the USFA to develop uniform data reporting methods, and to encourage and assist state agencies in developing and reporting data. In order to carry out the intentions of the Act, the National Fire Data Center established the National Fire Incident Reporting System (NFIRS) in 1975.

¹ The National Fire Incident Reporting System is currently being transferred to the newly created Preparedness Directorate of the Department of Homeland Security. During this transition FEMA, also part of the Department of Homeland Security, will continue to support this program as the new Directorate stands up. Ultimately this data collection will be transferred to the Preparedness Directorate.

NFIRS serves as a cooperative effort of local, State, and Federal authorities to improve uniformity in fire incident reporting and to ensure that data is usable for fire protection planning and management. It also enables the USFA, and many others, to identify common trends in collected data, which may be applicable to fire problems on a national, regional, state, and local scale.

Collection of Information

Title: National Fire Incident Reporting System (NFIRS) v5.0.

Type of Information Collection: Revision of a currently approved collection.

OMB Number: 1660-0069.

Form Numbers: Version 5.0 NFIRS-forms/modules No. 1-12.

Abstract: NFIRS provides a mechanism using standardized reporting methods to collect and analyze fire incident data at the Federal, State, and local levels. Data analysis helps local fire departments and States to focus on current problems, predict future problems in their communities, and measure whether their programs are working.

Affected Public: Federal, State, and local governments.

Estimated Total Annual Burden Hours: 7,583,585 hours.

Annual Burden Hours
Project/Activity (survey, form(s), focus group, worksheet, etc.) | No. of respondents: (A) | Frequency of responses ⁽¹⁾: (B) | Burden hours per respondent: (C) | Annual Responses ⁽²⁾: (A×B) | Total annual burden hours: (A×B×C)
NFIRS v5.0:
Manual | 1,700 | 1 | 12.00 hrs. | 1,484,100 | 1,633,325
Electronic | 15,300 | 1 | 4.75 hrs. | 13,640,400 | 5,944,500
Subtotal—Modules | 17,000 |  |  | 15,124,500 | 7,577,825
Training v5.0 | 390 | 1 |  | 390 | 5,760
Total | 17,390 | 1 |  | 15,124,890 | 7,583,585
¹ Each response may include several module submissions, though majority only NFIRS 1. Same respondent may respond more than once depending on the number of incidents being reported.
² Based on an estimated total of 10,000,000 incidents reported annually.

Estimated Cost: The wage burden for collection of information at the local level including training is estimated at $113,667.375 for both manual and electronic submissions (7,583,585 hrs @ $15/hr). The average cost to respondent per incident reported is $180.00 and $71.00 for the manual and electronic submission, respectively.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before March 20, 2006.

ADDRESSES: Interested persons should submit written comments to Chief, Records Management Section, Information Resources Management Branch, Information Technology Services Division, Federal Emergency Management Agency, 500 C Street, SW., Room 316, Washington, DC 20472.

FOR FURTHER INFORMATION CONTACT: Contact Mark A. Whitney, Fire Program Specialist, United States Fire Administration, National Fire Data Center, (301) 447-1836, or e-mail mark.whitney@dhs.gov for additional information. You may contact the Records Management Branch for copies of the proposed collection of information at facsimile number (202) 646-3347 or e-mail address: FEMA-Information-Collections@dhs.gov.

Dated: January 12, 2006.
Darcy Bingham,
Branch Chief, Information Resources Management Branch, Information Technology Services Division.

[FR Doc. E6-527 Filed 1-18-06; 8:45 am]

BILLING CODE 9110-17-P